DEPARTMENT OF TRANSPORTATION

Federal Railroad Administration

Notice of Final Agency Actions on Proposed Railroad Project in California

AGENCY: Federal Railroad Administration (FRA), DOT.

ACTION: Notice.

SUMMARY: This notice announces final environmental actions taken by the Federal Railroad Administration (FRA) for the Coachella Valley-San Gorgonio Pass Rail Corridor Service Project. By this notice, FRA is advising the public of the time limit to file a claim seeking judicial review of the action.

DATES: A claim seeking judicial review of FRA action for the Project will be barred unless the claim is filed on or before August 5, 2024. If Federal law later authorizes a time period of less than 2 years for filing such claim, then that shorter time period applies.

FOR FURTHER INFORMATION CONTACT: For questions about this notice, please contact Amanda Ciampolillo, Supervisory Environmental Protection Specialist, Office of Railroad Policy and Development, FRA, telephone: (617) 866-9398, email: Amanda.Ciampolillo@dot.gov. For legal questions, please contact Faris Mohammed, Attorney-Advisor, Office of the Chief Counsel, FRA, telephone: (202) 763-3230, email: Faris.Mohammed@dot.gov.

SUPPLEMENTARY INFORMATION: Notice is given that FRA has taken final agency actions, subject to 49 U.S.C. 24201(a)(4) and 23 U.S.C. 139(l)(1), by issuing certain approvals for the following railroad project: Coachella Valley-San Gorgonio Pass Rail Corridor Service Project (Project). The Project consists of a corridor-wide planning study of intercity passenger rail service between the cities of Los Angeles and Coachella, CA. FRA conducted the study in coordination with the California Department of Transportation and the Riverside County Transportation Commission. The purpose of the Project is to evaluate options for providing intercity passenger rail service to serve a range of purposes for travel between the Coachella Valley and the Los Angeles Basin, including business, social, medical, leisure, and recreational trips.

This notice applies to all decisions on the Project as of the issuance date of this notice and all laws under which such actions were taken, including but not limited to, National Environmental Policy Act (NEPA) [42 U.S.C. 4321-4375], Section 4(f) of the Department of Transportation Act [23 U.S.C. 138, 49 U.S.C. 303], Section 106 of the National Historic Preservation Act [54 U.S.C. 306108], and the Clean Air Act [42 U.S.C. 7401-7671q]. The actions on the Project, as well as the laws under which such actions were taken, are described in the combined Final Environmental Impact Statement/Record of Decision (FEIS/ROD) approved on June 3, 2022. The FEIS/ROD and other documents are available at https://railroads.dot.gov/environment/environmental-reviews/coachella-valley-san-gorgonio-pass-corridor-investment-plan.

(Authority: 49 U.S.C. 24201(a)(4) and 23 U.S.C. 139(l)(1))

Issued in Washington, DC.
Jamie P. Rennert,
Director, Office of Infrastructure Investment.

[FR Doc. 2022-16854 Filed 8-4-22; 8:45 am]

BILLING CODE 4910-06-P